DEPARTMENT OF THE INTERIOR

National Park Service

[N6661; NPS-WASO-NAGPRA-NPS0041398; PPWOCRADN0-PCU00RP14.R50000]

Notice of Intended Repatriation: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) intends to repatriate certain cultural items that meet the definition of sacred objects and objects of cultural patrimony and that have a cultural affiliation with the Indian Tribes or Native Hawaiian organizations in this notice.

DATES: Repatriation of the cultural items in this notice may occur on or after January 16, 2026.

ADDRESSES: Send additional, written requests for repatriation of the cultural items in this notice to Jane Pickering, Peabody Museum of Archaeology and Ethnology, Harvard University, 11 Divinity Avenue, Cambridge, MA 02138, email jpickering@fas.harvard.edu.

SUPPLEMENTARY INFORMATION: This notice is published as part of the National Park Service's administrative responsibilities under NAGPRA. The determinations in this notice are the sole responsibility of the PMAE, and additional information on the determinations in this notice, including the results of consultation, can be found in the summary or related records. The National Park Service is not responsible for the determinations in this notice.

Abstract of Information Available

A total of 30 cultural items has been requested for repatriation.

The four sacred objects collected from an unknown location in the United States are described as follows:

The one sacred object is one lot of pouches collected by Mrs. S.T. Satterthwaite and donated to the PMAE in 1939.

The two sacred objects are one lot of a pipe bag and one lot of a tobacco bag collected by William Radcliff Morris that were previously owned by Chief Washakie and Mrs. William R. Morris, and donated by William H. Claflin, Jr.

The one sacred object is one lot of a medicine necklace collected by William Wildschut and donated by William H. Claflin, Jr.

The 26 objects of cultural patrimony are described as follows:

The two objects of cultural patrimony collected from an unknown location in North America are one lot of a parfleche case collected by Mrs. E.T. Horitz and received by the PMAE as part of an exchange with the Smithsonian Institution in 1903 and one lot of moccasins collected by Ernest T. Jackson and donated by Ernest T. Jackson and Patrick T. Jackson to the PMAE in 1940.

The 13 objects of cultural patrimony collected from an unknown location in the United States and donated to the PMAE by William H. Claflin, Jr. are one lot of a painted skin robe collected by Donald C. Scott by purchase in 1913 and donated in 1947; one lot of a shirt collected by Jacob Paxson Temple; one lot of a doll, one lot of a quirt, one lot of a tomahawk, one lot of eagle feather headdresses, one lot of a coup stick, one lot of a double dance staff collected by William Radcliff Morris; one lot of a bone needle, one lot of a quirt, one lot of an awl, one lot of bags, and one lot of a knife and sheath collected by William Wildschut.

The four objects of cultural patrimony collected from an unknown location in Nevada are one lot of a woman's belt, one lot of leggings, one lot of moccasins, and one lot of quill leg ornaments collected by Grace Nicholson and Mrs. L. Cushman and donated by Lewis Hobart Farlow in 1904.

The one object of cultural patrimony from Utah is one lot of a necklace collected by Dr. Theodore Jewett Eastman and donated by Mrs. Henry H. Richardson in 1938.

The four objects of cultural patrimony from Wyoming are one lot of a war bonnet, one lot of a feather bustle, one lot of moccasins, and one lot of a man's roach headpiece collected and donated by Henry Seton in 1950.

The two objects of cultural patrimony from Fremont County, Wyoming are one lot of a wooden saddle and one lot of a large drum collected and donated by Henry Seton in 1958.

Determinations

The PMAE has determined that:

• The four sacred objects described in this notice are specific ceremonial objects needed by a traditional Native American religious leader for present-day adherents to practice traditional Native American religion, according to the Native American traditional knowledge of a lineal descendant, Indian Tribe, or Native Hawaiian organization.

• The 26 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Eastern Shoshone Tribe of the Wind River Reservation, Wyoming.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 16, 2026. If competing requests for repatriation are received, the PMAE must determine the most appropriate requestor prior to repatriation. Requests for joint repatriation of the cultural items are considered a single request and not competing requests. The PMAE is responsible for sending a copy of this notice to the Indian Tribes and Native Hawaiian organizations identified in this notice and to any other consulting parties.

Authority: Native American Graves Protection and Repatriation Act, 25 U.S.C. 3004 and the implementing regulations, 43 CFR 10.9.

Dated: November 21, 2025.
Melanie O'Brien,
Manager, National NAGPRA Program.

[FR Doc. 2025-23006 Filed 12-16-25; 8:45 am]

BILLING CODE 4312-52-P